DEPARTMENT OF COMMERCE

National Oceanic and Atmospheric Administration

50 CFR Part 648

[Docket No. 241212-0325]

RIN 0648-BN01

Fisheries of the Northeastern United States; Framework Adjustment 15 to the Monkfish Fishery Management Plan; Framework Adjustment 6 to the Spiny Dogfish Fishery Management Plan

AGENCY: National Marine Fisheries Service (NMFS), National Oceanic and Atmospheric Administration (NOAA), Commerce.

ACTION: Final rule.

SUMMARY: NMFS is implementing regulations for Framework Adjustment 15 to the Monkfish Fishery Management Plan/Framework Adjustment 6 to the Spiny Dogfish Fishery Management Plan, which the New England and Mid-Atlantic Fishery Management Councils jointly recommended and NMFS approved. This action establishes area-based gear requirements for vessels fishing with gillnets in the monkfish fishery, starting on January 1, 2026, and for vessels fishing with gillnets in the spiny dogfish fishery starting on May 1, 2025. This action is necessary to minimize bycatch of Atlantic sturgeon in the monkfish and spiny dogfish fisheries to the extent practicable and fulfill requirements of the Biological Opinion on Ten Fishery Management Plans in the Greater Atlantic Region and the New England Fishery Management Council's Omnibus Habitat Amendment 2.

DATES: Effective May 1, 2025.

ADDRESSES: Copies of the Framework 15/Framework 6 document, including the Regulatory Flexibility Act Analysis and other supporting documents for the measures, are available from Dr. Cate O'Keefe, Executive Director, New England Fishery Management Council, 50 Water Street, Mill 2, Newburyport, MA 01950 and Dr. Christopher M. Moore, Executive Director, Mid-Atlantic Fishery Management Council, 800 North State Street, Suite 201, Dover, DE 19901. The Framework 15/Framework 6 document is also accessible via the internet at: https://www.nefmc.org/management-plans/monkfish or https://www.mafmc.org/dogfish.

FOR FURTHER INFORMATION CONTACT: Spencer Talmage, Fishery Policy Analyst, (978) 281-9232.

SUPPLEMENTARY INFORMATION:

Background

The New England Fishery Management Council (New England Council) and the Mid-Atlantic Fishery Management Council (Mid-Atlantic Council) (collectively, the Councils) jointly manage both the Monkfish and Spiny Dogfish Fishery Management Plans (FMP). The New England Council is the administrative lead for the Monkfish FMP, while the Mid-Atlantic Council is the lead for the Dogfish FMP.

NMFS issued a Biological Opinion on May 27, 2021, that considered the effects of the authorization of two interstate fishery management plans (ISFMP) and eight Federal FMPs, including the Monkfish and Spiny Dogfish FMPs, on Endangered Species Act (ESA)-listed species and designated critical habitat through a formal Section 7 consultation. The Biological Opinion determined that NMFS's authorization of the eight FMPs and two ISFMPs may adversely affect, but is not likely to jeopardize, Atlantic sturgeon. The Biological Opinion included an Incidental Take Statement and Reasonable and Prudent Measures (RPM) with accompanying Terms and Conditions to minimize the impacts of incidental take of Atlantic sturgeon. The RPMs required that NMFS convene a working group to review all of the available information on Atlantic sturgeon bycatch in the federally permitted large-mesh gillnet fisheries and, by May 27, 2022, develop an Action Plan to reduce Atlantic sturgeon bycatch in these fisheries by 2024.

NMFS initially issued the Action Plan on May 26, 2022, and revised it on September 26, 2022, to incorporate feedback from the Councils and public. The Councils subsequently developed this joint framework action—Framework 15 to the Monkfish FMP and Framework 6 to the Dogfish FMP—to address the recommendations of the Action Plan and fulfill the requirements of the Biological Opinion.

Under the Magnuson-Stevens Fishery Conservation and Management Act, we approve, disapprove, or partially approve measures that the Councils propose, based on consistency with the Act and other applicable law. We review proposed regulations for consistency with the FMP, plan amendment, the Magnuson-Stevens Act and other applicable law, and publish the proposed regulations, solicit public comment, and promulgate the final regulations. We have approved all of the measures in this joint framework action recommended by the Councils, as described below. The measures implemented in this final rule:

• Require vessels fishing on a monkfish day-at-sea (DAS) within the New Jersey Atlantic Sturgeon Bycatch Reduction Area to use low-profile gillnet gear, beginning on January 1, 2026;

• Prohibit dogfish vessels fishing in the New Jersey Atlantic Sturgeon Bycatch Reduction Area from leaving gillnet gear in the water overnight during the months of May and November, effective May 1, 2025; and

• Prohibit dogfish vessels fishing in the Delaware and Maryland Atlantic Sturgeon Bycatch Reduction Area and Virginia Atlantic Sturgeon Bycatch Reduction Area from leaving gillnet gear in the water overnight from November through March, effective May 1, 2025.

Approved Measures

1. Low-Profile Gillnet Gear

The regulations implemented by this final rule require vessels fishing on a Monkfish DAS within the New Jersey Atlantic Sturgeon Bycatch Reduction Area that are using large mesh (i.e., greater than or equal to 10 inches (25.4 centimeters (cm)) to use low-profile gillnet gear, beginning on January 1, 2026. Low-profile gillnet gear is defined in this final rule as having:

• Mesh size ranging from 12 to 13 inches (30.48 to 33.02 cm);

• Net height ranging from 6 to 8 meshes tall;

• Net length of 300 feet (91.44 meters (m));

• Tie-down length of less than or equal to 30 inches (76.2 cm);

• Tie-down spacing of 12 feet (3.66 m);

• Primary hanging ratio of 0.50;

• Twine size of 0.81 millimeters (mm); and

• Tie downs at every float to keep the float line down.

These characteristics are intended to reduce interaction with Atlantic sturgeon by reducing the likelihood that Atlantic sturgeon high in the water column will become entangled, by allowing smaller sturgeon to swim through the larger mesh, and by allowing the larger sturgeon to break the mesh.

The requirement to use low-profile gillnet gear within the New Jersey Atlantic Sturgeon Bycatch Reduction Area will begin on January 1, 2026, as recommended by the Councils, to allow for the twine size to be considered under Marine Mammal Protection Act (MMPA) provisions and to provide time for affected members of the fishing industry to transition to new gear. The definition of the low-profile gillnet gear requires a twine size of 0.81 mm; however, this conflicts with current Harbor Porpoise Take Reduction Plan (HPTRP) Regulations, which require that large-mesh gillnet gear in the waters off the New Jersey Management Area have a twine size at least 0.9 mm in diameter from January 1 through April 30, except during April 1 through April 20 (50 CFR 229.34(b)(1)(ii)). The Harbor Porpoise Take Reduction Team (HPTRT) was asked by the Councils to consider whether this requirement could be modified to reduce the twine size required in the HPTRP regulations. On June 28, 2024, the HPTRT received a presentation regarding the potential impact of 0.81 mm mesh on harbor porpoise; the analysis presented showed that allowing the 0.81-mm twine size would not be anticipated to cause a statistically significant change in harbor porpoise bycatch relative to current conditions. The HPTRT did not voice any concerns over the proposed change in gear configuration nor the analysis of possible effects.

The low-profile gillnet design is a new gear configuration for a large majority of the fleet. The transition to the new gear will require construction of new nets, which may take time on the part of gear manufacturers, who are limited in number. Thus, delaying this requirement until January 1, 2026, provides industry with the time necessary to acquire and familiarize itself with the new selective gear.

2. Overnight Soak Prohibitions

Within the New Jersey Atlantic Sturgeon Bycatch Reduction Area, this action requires federally permitted spiny dogfish vessels fishing with roundfish gillnets (i.e., not tie-down gillnets) with a mesh size of 5 to 10 inches (12.7 to 25.4 cm) to remove nets from the water by 8 p.m. Eastern Time (ET) each day until 5 a.m. ET the following day. This requirement will be in place from May 1 through May 31 and November 1 through November 30 of each year, beginning May 1, 2025. This seasonal requirement is based on observer data showing that, of sturgeon takes observed from 2017-2019 and 2021-2022, takes by dogfish vessels within the New Jersey Atlantic Sturgeon Bycatch Reduction Area during May and November accounted for a combined 23 percent of all observed takes by dogfish vessels during the time period.

In the Delaware and Maryland Sturgeon Bycatch Area and in the Virginia Atlantic Sturgeon Bycatch Reduction Area, this action requires federally permitted spiny dogfish vessels fishing with roundfish gillnets (i.e., not tie-down gillnets) with a mesh size of 5.25 to 10 inches (13.34 to 25.4 cm) to remove nets from the water by 8 p.m. ET each day until 5 a.m. ET the following day. This requirement is in place from November 1 through March 31 each year, beginning May 1, 2025. This seasonal requirement is based on observer data showing that, of sturgeon takes observed from 2017-2019 and 2021-2022, takes by dogfish vessels within the Delaware and Maryland Bycatch Reduction Area and in the Virginia Sturgeon Bycatch Reduction Area from November through March accounted for 59 percent of all observed takes by dogfish vessel during the time period.

Implementing an overnight soak restriction for these vessels in the Atlantic Sturgeon Bycatch Reduction Areas during these seasons is expected to reduce the amount of Atlantic sturgeon bycatch, but the amount of that reduction is not certain. Within these areas, the overnight soak prohibitions effectively restrict the length of time gillnets could be soaked by dogfish vessels to a maximum of 15 hours. Bycatch mortality increases as soak time increases, and this restriction will cap soak time at levels where mortality is lower. As a result, the overnight soak prohibitions and the resulting reduction in overall soak time in the fishery are expected to greatly reduce the mortality of Atlantic sturgeon that are caught in nets within the Atlantic Sturgeon Bycatch Reduction Areas.

Comments and Responses

We received a total of 32 comments during the public comment period for the proposed rule. Of the 32 individual comments received, 17 were unique comments, and 15 were a form letter with identical, or close to identical, contents, but submitted by different individuals. Of the 32 individual comments received, 6 opposed the proposed measures, 1 fully supported the proposed measures, 1 supported the action but suggested improvements, and the remaining 25 suggested changes to the action, but did not clearly offer either support or opposition for the action.

Comments in Support

Comment 1: One member of the public generally supported the proposed measures, noting their agreement that Atlantic sturgeon bycatch should be limited. The commenter also provided feedback on the proposed rule. First, the commenter suggested that more information should be provided regarding the population levels for Atlantic sturgeon, monkfish, and spiny dogfish. The commenter also questioned why shortnose sturgeon was not included in this action. Finally, the commenter suggested additional modifications and requirements for large mesh gillnet gear that they suggested would reduce bycatch of Atlantic sturgeon. These were breakaway panels, net slack requirements, and depth restrictions.

Response: NMFS agrees that reduction in Atlantic sturgeon bycatch is important for marine conservation and stewardship. The Environmental Assessment (EA) for this action (see ADDRESSES) contains detailed information regarding target species (e.g., monkfish and dogfish), Atlantic sturgeon, and other species affected and potentially affected by the action (including shortnose sturgeon). Regarding additional gear modifications suggested in the comment, the low-profile gillnet design was derived from completed scientific work specifically focusing on reducing Atlantic sturgeon bycatch in the gillnet fisheries. Additional research would need to be conducted to determine the impact of the modifications and requirements on sturgeon bycatch, other species, and directed fisheries prior to consideration under the Council process for implementation in the gillnet fisheries.

Comment 2: The Center for Biological Diversity commented that it supports efforts to reduce and eliminate bycatch of marine species, including Atlantic sturgeon. The Center for Biological Diversity did not have specific comments regarding the measures being proposed, but stated that we should more explicitly consider the impacts of derelict fishing gear on the environment within the EA for this action and within other analyses conducted by the agency.

Response: We note the Center for Biological Diversity's support of the action to reduce bycatch of Atlantic sturgeon. NMFS does not expect the measures in this action to have a measurable impact on the incidence of derelict fishing gear either positively or negatively, though some reduction in derelict fishing gear may result if fishing effort is reduced. As such, we have determined that there is no need to update the EA for this action in response to this comment.

Comments in Opposition Comment 3: One member of the public opposed regulations for the fishing industry in general.

Response: While NMFS acknowledges the commenter's concern, regulations are the means by which measures contained in an FMP can be implemented and effectuated. Such regulations can be developed by the agency on its own, pursuant to the authority of MSA section 305(d), or, as here, through Council-recommended regulations pursuant to section 303(c). NMFS is required by section 304(b) of the MSA to evaluate proposed regulations pertaining to the fishing industry that are submitted by the Councils pursuant to section 303(c) that are deemed to be necessary and appropriate to implement an FMP. NMFS reviews such submitted regulations to determine whether they are consistent with the FMP, the MSA, and other applicable law. As stated in the Classifications section of this final rule, the NMFS Assistant Administrator determined that this final rule is consistent with the Monkfish and Spiny Dogfish FMPs, other provisions of the Magnuson-Stevens Act, and other applicable law. As such, NMFS is promulgating these regulations to implement Frameworks 15 and 6.

Comment 4: Two members of the public commented that no action (Alternative 1 in the EA) should be the preferred alternative and the action included in this rule (Alternative 5) should not be implemented. One of the commenters stated that the impacts of no action could be positive for Atlantic sturgeon compared to the other alternatives.

Response: NMFS disagrees that no action should be taken and that Alternative 5 is not supported by the impact analysis. Alternative 5 is expected to reduce Atlantic sturgeon bycatch and mortality in the gillnet fishery compared to taking no action. The measures implemented in this action, Alternative 5, balance as much bycatch reduction for Atlantic sturgeon as possible with as minimal potential impacts on the monkfish and spiny dogfish fisheries as possible. Other alternatives that were not included in the proposed rule also would be expected to reduce Atlantic sturgeon bycatch. Alternatives 2 through 4 would reduce the bycatch of Atlantic sturgeon more than any other alternatives. However, they would also have more negative impacts on the monkfish and dogfish fisheries than other alternatives because they would prevent operation of the monkfish and spiny dogfish fisheries entirely during certain times of the year in the Atlantic Sturgeon Bycatch Reduction Areas. Alternative 5 allows for the continued operation of the monkfish and spiny dogfish fisheries within the Atlantic sturgeon bycatch reduction areas, thereby reducing bycatch and mortalities while also minimizing socioeconomic impacts on the monkfish and spiny dogfish fisheries.

Low-Profile Gillnet Requirement

Comment 5: One member of the public stated that the proposed regulations should not explicitly name the low-profile gillnet, arguing that giving the gear a specific name will result in confusion.

Response: NMFS disagrees that a specific name assigned to the gear type would result in confusion. There are already several examples of selective gear types defined in the regulations, including Ruhle Trawl § 648.80(a)(9)(ii), Rope Separator Trawl § 648.84(e), and Large-Mesh Belly Panel Trawl § 648.84(f), and there is no evidence that significant confusion has resulted from that practice. Defining the low-profile gillnet gear allows for a clear definition of the gear configuration in the regulations and makes it easier to distinguish it from other gillnet gear. This also simplifies future modifications to the specific gear and its required configurations, should they become necessary.

Comment 6: Two members of the fishing industry, including one HPTRT member, commented about the potential interactions between, and possible inadvertent economic impacts of, the HPTRP regulations that would require a different minimum twine size than the low-profile gillnet gear minimum twine size. Regarding the HPTRP regulations, the commenters expressed concern that the 0.81-mm twine size was included in the definition for low profile gillnet gear while HPTRP regulations are currently in place include a 0.9-mm minimum twine size. The commenters assert that if nothing is done to resolve the conflict in these sets of regulations, then an inadvertent fishery closure could occur, incurring negative economic impacts typically associated with fishery closure. The commenters recommended a delay to January 1, 2027, to resolve this issue.

Response: NMFS expects that the delay in effectiveness of the low-profile gillnet requirement to January 1, 2026, will provide sufficient time to resolve the concerns raised by this commenter, and disagrees that a delay to January 1, 2027, would be necessary at this time.

On June 28, 2024, the HPTRT met and received information regarding all of the characteristics of the low-profile gillnet, including the 0.81-mm twine size, and the potential impacts of said gear on take of harbor porpoise. The team did not voice any concerns over the proposed change in gear configuration or the analysis presented on possible effects. We expect to propose future alteration of the HPTRP regulations to accommodate the twine size included in the low-profile gillnet requirement in this action.

Further, the 0.81-mm twine size was derived from the scientific research used to inform the development of this action; the inclusion of 0.81-mm twine size in the low-profile gillnet design is essential to ensuring that the gear is most effective at reducing bycatch of Atlantic sturgeon. Removing the twine size specification from the gear definition would be expected to reduce the efficacy of these regulations in reducing Atlantic sturgeon bycatch, which is the primary goal of this action.

Other General Comments

Comment 7: One member of the public questioned whether an interaction with an Atlantic sturgeon that is released alive should qualify as a take, instead stating that a take should only be when an Atlantic sturgeon is killed and landed.

Response: NMFS disagrees with the assertion by this commenter that a take should only be when an Atlantic sturgeon is killed and landed. Atlantic sturgeon is protected under the ESA, and the ESA is explicit in its definition of take. The ESA defines “take” to mean “to harass, harm, pursue, hunt, shoot, wound, kill, trap, capture, or collect, or to attempt to engage in any such conduct.” 16 U.S.C. 1532(19). Non-lethal, incidental interaction with Atlantic sturgeon caused by fisheries activity falls into the definition of take as defined under the ESA.

Comment 11: One member of the public commented that the action should consider the impact of offshore wind development on monkfish and dogfish.

Response: The EA for this action includes a summary of the expected impacts of offshore wind energy development on monkfish and dogfish that considered all stages of wind energy development, including initial site assessment, construction activities, and the completed wind fields. Each of these could potentially result in a variety of direct and indirect impacts on the affected species and their marine habitat. The analysis concludes that the impacts could range from no impact to moderate negative. However, the impact of offshore wind energy development on monkfish and dogfish do not change the need for this action to reduce bycatch of Atlantic sturgeon in the monkfish and dogfish gillnet fisheries. The analysis can be found in the Cumulative Effects Analysis (CEA), Section 6.7.2.2.1, of the EA supporting this action (see ADDRESSES).

Comment 12: One member of the public commented on offshore wind development in relation to the status of North Atlantic right whales.

Response: The relationship between offshore wind development and the status of North Atlantic right whales is outside the scope of this rulemaking.

Economic Impacts

We received several comments from the public regarding the potential economic impacts of this action on the monkfish and spiny dogfish fisheries. These comments often made overlapping or interrelated points. To reduce repetition and ensure ease of readability, these comments and responses have been summarized and addressed by issue, rather than by individual comment.

Comment 13: We received 17 comment letters, including those from the Sustainable Fisheries Association (SFA) and 14 members of the fishing industry who submitted comments mirroring the language used by the SFA, that urged a delayed effectiveness for the overnight soak prohibitions that were proposed. The most commonly requested date for a delayed effectiveness of this action was May 1, 2025, the start of fishing year 2025. Each comment cited economic concerns and costs relating to adjustments to fishing behavior, including changes to mesh sizes, which vessels would need to make in order to come into compliance with the overnight soak prohibition regulations. Commenters asserted that, should the overnight soak prohibition go into effect before May 1, 2025, there would either not be enough time for vessel owners to comply with the regulations, or the cost of doing so would be prohibitively high in a short span of time. As a result, the commenters stated that they would likely not fish during the seasonal restriction if no delay was provided. Commenters noted that the dogfish fishery is dependent on a small number of processors and a relatively small market that could be negatively impacted by the overnight soak prohibition if implemented shortly after this rule publishes and before May 1, 2025. They expressed concern that doing so could result in the loss of markets and processors for the foreseeable future.

Response: NMFS finds that the request from the public to delay effectiveness of the overnight soak prohibitions is reasonable and justified, and that change is reflected in the May 1, 2025, effectiveness date of this final rule. In making this determination, NMFS considered the economic implications raised by members of the public in comparison to the potential impacts on Atlantic sturgeon that might occur as a result of the delay. NMFS agrees with the argument that a standard 30-day delayed effectiveness under the Administrative Procedure Act (APA) may not be sufficient time for industry to adjust to the regulations being put into place by this final action.

A delay in effectiveness to May 1, 2025, would only eliminate the seasonal overnight soak prohibition in the Delaware and Maryland Atlantic Sturgeon Bycatch Reduction Areas from a date 30 days after the publication of this final rule through March 31, 2025. Though the measures being approved in this final action do address Atlantic sturgeon bycatch in the monkfish and dogfish fisheries, the negative impacts to Atlantic sturgeon that might occur as a result of losing 3 to 4 months of the overnight soak prohibition are unlikely to be significant. These impacts do not justify implementation after only a 30-day delayed effectiveness given the weight of the economic concerns that have been raised by the public.

NMFS also notes that delayed effectiveness for gear related measures is not a novel concept; the low-profile gillnet gear requirement in the New Jersey Atlantic Sturgeon Bycatch Reduction Area approved in this very action is delayed until January 1, 2026. The rationale for that delay was also in part to provide time necessary for industry to adapt to the regulations being implemented. It would be inconsistent to accept that rationale when implementing measures that affect one fishery, while rejecting it for measures implemented for another, closely related fishery.

Finally, the Atlantic States Marine Fisheries Commission is currently developing complementary action to address Atlantic sturgeon bycatch by state-only permitted vessels within the footprint of the Atlantic Sturgeon Bycatch Reduction Areas being put into place by this action. A delay in effectiveness to May 1, 2025, reduces or avoids the potential for mismatched implementation of these regulations and simplifies enforcement.

Comment 14: We received seven comments that requested that the overnight soak prohibition in the Delaware and Maryland Atlantic Sturgeon Bycatch Reduction Area and Virginia Atlantic Sturgeon Bycatch Reduction Area be effective for mesh sizes greater than 5.25 inches to 10 inches (13.34 to 25.4 cm), rather than for mesh sizes 5.25 inches to 10 inches (13.34 to 25.4 cm). The commenters want to be able to use 5.25-inch (13.34-cm) mesh and noted that there would be a high cost for vessels to switch gear to less than 5.25-inch (13.34-cm) gear so that they could continue to fish in the areas.

Response: NMFS is not changing the overnight soak prohibitions in the Delaware and Maryland Atlantic Sturgeon Bycatch Reduction Area and the Virginia Atlantic Sturgeon Bycatch Reduction Area in response to these comments. The Councils' process fully considered what range of mesh sizes the prohibitions would apply to during the development of this action, including at Advisory Panel, Joint Committee, and Council meetings. The Councils were deliberate in their selection of mesh sizes that would be subject to these regulations in order to most effectively address Atlantic sturgeon bycatch and mortality. These comments provided no information that would justify deviation from the range of mesh sizes recommended by the Councils. NMFS also notes that to address the economic impact of replacing gear, it is delaying the effective date of the measures until May 1, 2025. Vessel owners replace gillnets over time because of wear and tear or loss. The delay in effectiveness to May 1, 2025, allows vessel owners a longer time frame to voluntarily replace gillnets due to usual wear and tear with gear that uses smaller mesh, should they so choose, prior to the effective date of the overnight soak prohibition.

Comment 15: Four comments were received that generally stated that this action would result in the weakening or overall loss of the impacted fisheries and associated businesses. Two commenters additionally noted that, under National Standard 7, the MSA requires “normal and prudent measures” do not impose a financial burden, and that the costs associated with needing to replace standard gillnet gear with low-profile gillnet gear would be significant.

Response: NMFS disagrees with the implication that this action is inconsistent with National Standard 7, which states that “Conservation and management measures shall, where practicable, minimize costs and avoid unnecessary duplication.” National Standard 7 guidelines also establish that the supporting analyses for FMPs should demonstrate that the benefits of fishery regulation are real and substantial relative to added costs, including costs to the industry for compliance. The EA includes an analysis of impacts to small entities for the purposes of the Regulatory Flexibility Act, which does expect some cost to industry as it complies with the regulations within this action.

As described in the EA (see ADDRESSES), the action in this rule strikes a balance between ESA requirements to reduce sturgeon bycatch and the economic impact on the monkfish and dogfish fisheries. Overnight soak prohibitions for the dogfish fishery and the requirement for the monkfish fishery to use low-profile gillnet gear in times and areas with high Atlantic sturgeon take were selected over more restrictive time and area closures that would have prevented all fishing by the monkfish and spiny dogfish fisheries in those places and times. These measures allow the fishery to continue to operate in a manner that reduces impacts to Atlantic sturgeon. Further, delays in the effective date of this action are designed to, as much as possible, mitigate costs incurred by the need to purchase new gear to comply with the new regulations.

The measures in this action represent the most flexible set of regulations under consideration while still fulfilling requirements to reduce Atlantic sturgeon bycatch. As such, this action is consistent with National Standard 7 of the MSA.

Changes From the Proposed Action

In this final rule, we have made a small number of changes to the proposed implementing regulations. These changes clarify the proposed regulatory text, but are not substantive in terms of modifying the proposed measures. After consulting with the Councils, in this final rule, we make the following changes to the proposed implementing regulations:

• Revise the proposed text at § 648.14(s)(2)(iv) to replace the word “Violate” with “Fail to comply with.” This change makes the regulation consistent with other regulatory text in § 648.14.

• Revise the proposed text at § 648.91(d)(2)(i) to more clearly reference the regulations defining and implementing the Mid-Atlantic Exemption Area at 648.80(c)(5).

Classification

Pursuant to section 304(b)(3) of the Magnuson-Stevens Act, the NMFS Assistant Administrator has determined that this final rule is consistent with the Monkfish and Spiny Dogfish FMPs, other provisions of the Magnuson-Stevens Act, and other applicable law.

This final rule has been determined to be not significant for purposes of Executive Order 12866.

During development of this action, NMFS reached out to Tribal representatives from the coastal Tribes in the Greater Atlantic Region to seek whether they wanted to engage on this Framework. No response was received, and as such, NMFS has determined that this action would not have a substantial direct effect on one or more Indian Tribes, on the relationship between the Federal Government and Indian Tribes, or on the distribution of power and responsibilities between the Federal Government and Indian Tribes; therefore, consultation with Tribal officials under E.O.13175 is not required, and the requirements of sections (5)(b) and (5)(c) of E.O. 13175 also do not apply. A Tribal summary impact statement under section (5)(b)(2)(B) and section (5)(c)(2)(B) of E.O. 13175 is not required and has not been prepared.

The Chief Counsel for Regulation of the Department of Commerce certified to the Chief Counsel for Advocacy of the Small Business Administration during the proposed rule stage that this action would not have a significant economic impact on a substantial number of small entities. The factual basis for the certification was published in the proposed rule and is not repeated here. Although we received comments on the economic impacts of the proposed action, these comments did not change the factual basis for this certification. Comments on the economic impacts, and responses to those comments, are included in the Comments and Responses section of this final rule. As a result, a regulatory flexibility analysis was not required and none was prepared.

List of Subjects in 50 CFR Part 648

Fisheries, Fishing.

Dated: December 12, 2024.
Samuel D. Rauch III,
Deputy Assistant Administrator for Regulatory Programs, National Marine Fisheries Service.

For the reasons set out in the preamble, NMFS amends 50 CFR part 648 as follows:

PART 648—FISHERIES OF THE NORTHEASTERN UNITED STATES

1. The authority citation for part 648 continues to read as follows:

Authority: 16 U.S.C. 1801 et seq.

2. Amend § 648.2, by adding in alphabetical order the definition for “low-profile gillnet gear” to read as follows:

§ 648.2 Definitions.

* * * * *

Low-profile gillnet gear means monkfish gillnets that are constructed with the following characteristics designed to reduce interaction with Atlantic sturgeon: 12 to 13 inch (30.48 to 33.02 cm) diamond mesh; Net height of 6 to 8 meshes; Net length of 300 feet (91.44 m); Tie-down length less than or equal to 30 inches (76.2 cm); Tie-down spacing of 12 feet (3.66 m); Primary hanging ratio of 0.50 (i.e., the length of webbing is twice that of the length of line used); Twine size of 0.81 mm; and the net is tied at every float to keep the float line down.

* * * * *

3. Amend § 648.14, by adding paragraphs (m)(3)(iii) and (s)(2)(iv) to read as follows:

§ 648.14 Prohibitions.

* * * * *

(m) * * *

(3) * * *

(iii) Fail to comply with the New Jersey Atlantic Sturgeon Bycatch Reduction Area requirements specified at § 648.91(d).

* * * * *

(s) * * *

(2) * * *

(iv) Area requirements. Fail to comply with the Atlantic Sturgeon Bycatch Reduction Areas requirements specified at § 648.234(a).

* * * * *

4. Amend § 648.91, by adding paragraph (d) to read as follows:

§ 648.91 Monkfish regulated mesh areas and restrictions on gear and methods of fishing.

* * * * *

(d) New Jersey Atlantic Sturgeon Bycatch Reduction Area—(1) Area Definition: The New Jersey Dogfish and Monkfish Atlantic Sturgeon Bycatch Reduction Area is defined by straight lines connecting the following points in the order stated:

Table 1 to Paragraph (d)
Point | N lat. | W long.
NJ1 | 40°24′ | 73°54′
NJ2 | 40°9′ | 73°24′
NJ3 | 39°30′ | 73°51′
NJ4 | 39°48′ | 74°12′
NJ1 | 40°24′ | 73°54′

(2) Restrictions in the New Jersey Atlantic Sturgeon Bycatch Reduction Area. Effective year round beginning on January 1, 2026, vessels may not fish with gillnet gear under a Monkfish DAS within the New Jersey Atlantic Sturgeon Bycatch Reduction Area unless:

(i) A vessel is fishing on a monkfish-only DAS within the MA Exemption Area and in accordance with the requirements set forth at § 648.80(c)(5)(ii), with roundfish gillnets with a mesh size equal to or greater than 5 inches (12.7 cm) and less than 10 inches (25.4 cm).

(ii) A vessel is fishing with low profile gillnet gear, as defined in § 648.2.

5. Add § 648.234 to read as follows:

§ 648.234 Gear restrictions.

(a) New Jersey Atlantic Sturgeon Bycatch Reduction Area—(1) Area Definition: The New Jersey Dogfish and Monkfish Atlantic Sturgeon Bycatch Reduction Area is defined by straight lines connecting the following points in the order stated:

Table 1 to Paragraph (a)
Point | N lat. | W long.
NJ1 | 40°24′ | 73°54′
NJ2 | 40°9′ | 73°24′
NJ3 | 39°30′ | 73°51′
NJ4 | 39°48′ | 74°12′
NJ1 | 40°24′ | 73°54′

(2) From May 1 through May 31 and November 1 through November 30 of each year, vessels issued a Federal spiny dogfish permit must remove gillnet gear with a mesh size equal to or greater than 5 inches (12.7 cm) and less than 10 inches (25.4 cm) from within the New Jersey Atlantic Sturgeon Bycatch Reduction Area from 8 p.m. eastern time each day through 5 a.m. eastern time the following day.

(b) Delaware and Maryland Atlantic Sturgeon Bycatch Reduction Area—(1) Area Definition: The Delaware and Maryland Atlantic Sturgeon Bycatch Reduction Area is defined by straight lines connecting the following points in the order stated:

Table 2 to Paragraph (b)
Point | N lat. | W long.
DM1 | 38°27′ | 75°60′
DM2 | 38°21′ | 74°48′
DM3 | 37°30′ | 75°12′
DM4 | 37°48′ | 75°30′
DM1 | 38°27′ | 75°60′

(2) Requirements: From November 1 through March 31 of each year, vessels issued a Federal spiny dogfish permit must remove roundfish gillnets with a mesh size equal to or greater than 5.25 inches (13.3 cm) and less than 10 inches (25.4 cm) from the water within the Delaware and Maryland Atlantic Sturgeon Bycatch Reduction Area from 8 p.m. eastern time each day through 5 a.m. eastern time the following day.

(c) Virginia Atlantic Sturgeon Bycatch Reduction Area—(1) Area Definition: The Virginia Atlantic Sturgeon Bycatch Reduction Area is defined by straight lines connecting the following points in the order stated:

Table 3 to Paragraph (c)
Point | N lat. | W long.
37°18′ | 75°54′
VA2 | 36°48′ | 75°36′
VA3 | 36°33′ | 75°51′
VA4 | 36°54′ | 76°6′
VA1 | 37°18′ | 75°54′

(2) Requirements: From November 1 through March 31 of each year, vessels issued a Federal spiny dogfish permit must remove roundfish gillnets with a mesh size equal to or greater than 5.25 inches (13.3 cm) and less than 10 inches (25.4 cm) from the water within the Virginia Atlantic Sturgeon Bycatch Reduction Area from 8 p.m. eastern time each day through 5 a.m. eastern time in the following day.

[FR Doc. 2024-29861 Filed 12-17-24; 8:45 am]

BILLING CODE 3510-22-P